DEPARTMENT OF HOUSING AND URBAN DEVELOPMENT

[Docket No. FR-6067-N-01]

Revocation of Orders of Succession for the Office of the Deputy Secretary

AGENCY: Office of the Deputy Secretary, HUD.

ACTION: Revocation of Orders of Succession.

SUMMARY: In this document, the Deputy Secretary of the Department of Housing and Urban Development rescinds all previous Orders of Succession for the Office of the Deputy Secretary.

DATES: November 13, 2017.

FOR FURTHER INFORMATION CONTACT: Office of Deputy Secretary, U.S. Department of Housing and Urban Development, 451 7th Street SW., Room 10100, Washington, DC 20410-6000, telephone (202) 402-5430. (This is not a toll-free number). Persons with hearing- or speech-impairments may access this number through TTY by calling the toll-free Federal Information Relay Service at 1-800-877-8339.

SUPPLEMENTARY INFORMATION:

Section A. Revocation of Orders of Succession

The Deputy Secretary of the Department of Housing and Urban Development revokes and rescinds any Orders of Succession for the Office of Deputy Secretary that was signed by a previous Deputy Secretary or Acting Deputy Secretary, including Orders of Succession published in the Federal Register or published by memorandum.

Section B. Authority Superseded

This publication supersedes all prior Orders of Succession for the Office of the Deputy Secretary, including Orders of Succession published by memorandum on January 8, 2017 and August 4, 2017.

Authority: Section 7(d) of the Department of Housing and Urban Development Act, 42 U.S.C. 3535(d).

Dated: November 13, 2017.
Pamela H. Patenaude,
Deputy Secretary.

[FR Doc. 2017-25024 Filed 11-16-17; 8:45 am]

BILLING CODE 4210-67-P